DEPARTMENT OF HEALTH AND HUMAN SERVICES

National Institutes of Health

Center for Scientific Review; Amended Notice of Meeting

Notice is hereby given of a change in the meeting of the Cancer Etiology Study Section, October 7, 2010, 8 a.m. to October 8, 2010, 5 p.m. Marina del Rey Marriott, 4100 Admiralty Way, Marina del Rey, CA, 90292 which was published in the Federal Register on August 31, 2010, 75 FR 53317-53319.

The meeting will be held at the Marina del Rey Hotel, 13534 Bali Way, Marina del Rey, CA 90292. The meeting dates and time remain the same. The meeting is closed to the public.

Dated: September 20, 2010.
Jennifer S. Spaeth,
Director, Office of Federal Advisory Committee Policy.

[FR Doc. 2010-24138 Filed 9-24-10; 8:45 am]

BILLING CODE 4140-01-P